CONSUMER PRODUCT SAFETY COMMISSION

Information Quality Guidelines: Notice of Availability

AGENCY: Consumer Product Safety Commission.

ACTION: Notice.

SUMMARY: The Consumer Product Safety Commission is announcing the availability of its final Guidelines for Ensuring the Quality, Objectivity, Utility, and Integrity of Information disseminated by the Commission.

EFFECTIVE DATE: October 11, 2002.

ADDRESSES: Office of the Secretary, Consumer Product Safety Commission, Washington, DC 20207, or that office, room 502, East-West Highway, Bethesda, Maryland 20814.

FOR FURTHER INFORMATION CONTACT: Mary Kelsey, Office of Information Services, Consumer Product Safety Commission, 301-504-0000 ext. 2230, e-mail mkelsey@cpsc.gov; or Terry Hardy, Office of Planning and Evaluation, 301-504-0416 ext. 2191, e-mail thardy@cpsc.gov.

SUPPLEMENTARY INFORMATION: These guidelines and supporting documents are available on the internet at http://www.cpsc.gov/library/infoguideliness.html and are issued pursuant to section 515 of the Treasury and General Government Appropriations Act for Fiscal Year 2001, Public Law 106-554, which mandated that the Office of Management and Budget (OMB) issue government-wide guidelines that “provide policy and procedural guidance to Federal agencies for ensuring and maximizing the quality, objectivity, utility, and integrity of information (including statistical information) disseminated by Federal agencies.” The statute further requires OMB to require each Federal agency to issue its own guidelines. OMB's amended final guidance appears at 67 FR 8452, February 22, 2002, and at http://www.whitehouse.gov/omb/fedreg/final_information_quality.htm. The OMB guidelines, as further revised at 67 FR 9797, March 4, 2002, required each Federal agency to post its own draft guidelines on the internet by May 1, 2002, which the Consumer Product Safety Commission has done. These final guidelines incorporate comments from the public and OMB. Hereafter, starting on January 1, 2004, agencies must file annual fiscal year reports to OMB on the number, nature and resolution of complaints about alleged noncompliance with the agency guidelines.

A paper copy of the guidelines may also be obtained by telephoning Mary Kelsey at 301-504-0000 ext. 2230.

Dated: October 7, 2002.
Todd Stevenson,
Secretary, Consumer Product Safety Commission.

[FR Doc. 02-25914 Filed 10-10-02; 8:45 am]

BILLING CODE 6355-01-P